DEPARTMENT OF DEFENSE

Office of the Secretary

Defense Science Board

AGENCY: Department of Defense.

ACTION: Notice of advisory committee meeting; cancellation.

SUMMARY: On Monday, March 16, 2009 (74 FR 11090-11091) the Department of Defense announced closed meetings of the Defense Science Board (DSB) Spring Quarterly. On Friday, May 8, 2009 (74 FR 21664) the Department of Defense announced that these meetings were rescheduled to June 3-4, 2009. This notice announces that the Defense Science Board Spring Quarterly meetings have been cancelled.

FOR FURTHER INFORMATION CONTACT: Ms. Debra Rose, Executive Officer, Defense Science Board, 3140 Defense Pentagon, Room 3B888A, Washington, DC 20301-3140, via e-mail at debra.rose@osd.mil, or via phone at (703) 571-0084.

Morgan E. Frazier,
Alternate OSD Federal Register Liaison Officer, Department of Defense.

[FR Doc. E9-12504 Filed 5-28-09; 8:45 am]

BILLING CODE 5001-06-P